DEPARTMENT OF THE INTERIOR

Bureau of Land Management

[LLMT926000-09-L19100000-BJ0000-LRCM08RS4045]

Notice of Filing of Plats of Survey; Montana

AGENCY: Bureau of Land Management, Interior.

ACTION: Notice of Filing of Plats of Survey.

SUMMARY: The Bureau of Land Management (BLM) will file the plat of survey of the lands described below in the BLM Montana State Office, Billings, Montana, thirty (30) days from the date of publication in the Federal Register.

FOR FURTHER INFORMATION CONTACT: Steve Toth, Cadastral Surveyor, Branch of Cadastral Survey, Bureau of Land Management, 5001 Southgate Drive, Billings, Montana 59101-4669, telephone (406) 896-5121 or (406) 896-5009.

SUPPLEMENTARY INFORMATION: This survey was executed at the request of the Superintendent, Fort Peck Agency, through the Rocky Mountain Regional Director, Bureau of Indian Affairs, and was necessary to determine boundaries of trust or tribal interest lands.

The lands we surveyed are:

Principal Meridian, Montana

T. 27 N., R. 51 E.

The plat, in 11 sheets, representing the dependent resurvey of a portion of the east boundary, a portion of the subdivisional lines, a portion of the subdivision of sections 10, 14, 16, 21, 23, 26, and 27, the adjusted original meanders of the former left bank of the Missouri River, downstream, through sections 10, 11, 14, 15, 16, 21, 22, 24, 25, 26, and 27, and the subdivision of sections 10, 14, 16, 23, and 26, and the survey of the present meanders and the informative traverse of the present left bank of the Missouri River, downstream, through sections 21, 22, 23, 24, 25, 26, and 27, the limits of erosion in section 16, the left bank and informative traverse of the left bank of an abandoned channel of the Missouri River, downstream, through sections 10, 11, 14, 15, 16, 21, and 22, the informative traverse of the right bank of an abandoned channel of the Missouri River, downstream, through sections 15 and 22, the informative traverse of the 1911 left bank of the Missouri River subsequent to avulsion, the medial line of an abandoned channel of the Missouri River, downstream, through sections 10, 11, 14, 15, 16, 21, and 22, certain division of accretion lines, the left bank and medial line of a relicted channel of the Missouri River, in front of section 21, the left bank of a relicted channel of the Missouri River, in front of sections 22, 23, and 26, certain partition lines, and certain tracts, Township 27 North, Range 51 East, Principal Meridian, Montana, was accepted January 25, 2010. We will place a copy of the plat, in 11 sheets, and related field notes we described in the open files. They will be available to the public as a matter of information. If BLM receives a protest against this survey, as shown on this plat, in 11 sheets, prior to the date of the official filing, we will stay the filing pending our consideration of the protest. We will not officially file this plat, in 11 sheets, until the day after we have accepted or dismissed all protests and they have become final, including decisions or appeals.

Authority: 43 U.S.C. chap. 3

Dated: January 27, 2010.
Michael T. Birtles,
Chief Cadastral Surveyor, Division of Resources.

[FR Doc. 2010-2188 Filed 2-1-10; 8:45 am]

BILLING CODE 4310-DN-P